DEPARTMENT OF THE INTERIOR

Office of the Secretary

[Fund: 133D5670LC, Fund Center: DS10100000 Functional Area: DLCAP0000.000000 WBS: DX.10120]

Land Buy-Back Program for Tribal Nations Under Cobell Settlement

AGENCY: Office of the Deputy Secretary, Interior.

ACTION: Notice.

SUMMARY: The Land Buy-Back Program for Tribal Nations has released its 2014 Status Report that details what the Program has been doing to execute terms of the Cobell Settlement. The Program continues to actively engage tribes and individuals across Indian Country to raise awareness of the Program and will host a listening session on March 19, 2015, in Laveen, Arizona. We hope to receive feedback on the Report from tribes and individuals.

DATES: The listening session will take place on March 19, 2015, at the Vee Quiva Hotel, 15091 South Komatke Lane, Laveen, AZ 85339. Comments must be received by April 20, 2015.

FOR FURTHER INFORMATION CONTACT: Ms. Treci Johnson, Public Relations Specialist, Land Buy-Back Program for Tribal Nations, (202) 208-6916.

SUPPLEMENTARY INFORMATION:

I. Background

The Land Buy-Back Program for Tribal Nations (Buy-Back Program or Program) is the Department of the Interior's (Department) collaborative effort with Indian Country to realize the historic opportunity afforded by the Cobell Settlement—a $1.9 billion Trust Land Consolidation Fund—to compensate individuals who willingly choose to transfer fractional land interests to tribal nations for fair market value. Directly following final approval of the Settlement in December 2012 and early consultations in 2011, the Department established the Buy-Back Program and published an Initial Implementation Plan in light of consultation that occurred in 2011 and 2012. The Department released an Updated Implementation Plan in November 2013 after several rounds of additional government-to-government consultation with tribes and feedback on the Initial Implementation Plan.

The Department is currently implementing the Buy-Back Program at multiple locations across Indian Country. Thus far, the Program has made $754 million in offers to individual landowners and paid more than $209 million directly to more than 16,000 individuals that decided to sell fractional interests. This has restored the equivalent of more than 350,000 acres to tribes. Our working relationships with tribes (12 cooperative agreements or other arrangements to date) and continued outreach to landowners are important elements of continued progress.

II. Listening Session

The purpose of the upcoming listening session is to gather input from tribes in order for the Department to continue to refine its land consolidation processes, and engage individual landowners who may have questions about the Program. An agenda and RSVP information will be announced closer to the date of the event.

III. Seeking Tribal Input

The Buy-Back Program is committed to continuous consultations throughout the life of the Program in compliance with the letter and spirit of Executive Order 13175 (Consultation and Coordination with Indian Tribal Governments) and Secretarial Order 3314 (Department of the Interior Policy on Consultation with Indian Tribes).

At the beginning of 2013, Department officials conducted extensive tribal consultations on the following:

(1) Developing an efficient, fair process for landowners of fractionated interests to participate in the Buy-Back Program;

(2) Identifying and maximizing opportunities for tribal involvement; and

(3) Offering tribes flexibility to execute Program requirements in the manner best suited for the unique needs of each community.

While the Department welcomes feedback related to any aspect of the Program, the following areas are of particular interest:

• Implementation at Less-Fractionated Locations. There are about 110 less-fractionated locations that contain approximately 10 percent of the outstanding fractional interests. The Program continues to explore ways for additional less-fractioned locations to participate in buy-back efforts in an efficient and cost-effective manner. For example, the Buy-Back Program has received requests from tribes for reimbursement of past and future purchases of fractionated interests acquired under tribal or other land consolidation efforts. To date, no reimbursement requests have been awarded through the Buy-Back Program. Until the Program renders a decision on such reimbursement requests, no reimbursement requests will be granted, and tribes should not proceed with that expectation. The Program encourages the submission of comments or ideas on whether and how reimbursements might work.

• Whereabouts Unknown. Whereabouts unknown (WAU) is the term used to describe IIM account holders without current address information on file with OST. The Settlement provides for an outreach effort to locate landowners whose whereabouts are unknown as of the date of final approval of the Settlement. The Program has not exercised WAU purchases thus far and is seeking input from tribes and individuals on whether and how it should implement the provision. Since the Program's inception, the focus has been locating WAU through outreach efforts so the individuals can receive and consider an offer.

• Improvements. Where structural improvements exist on a tract, a number of issues may complicate the acquisition of fractional interests in the tract. While the Program does not intend to acquire structural improvements, which are non-trust property, the Program seeks additional feedback from landowners and tribes about acquiring interests in tracts with structural improvements, including instances in which the Program might choose to acquire interests. For example, the Program might make offers for interests in a tract with non-residential structural improvements (e.g., a tract only with an uninhabited agricultural shed or hay barn), but not on tract where residences are located unless the tribe has a policy or resolution in place ensuring that residents' interests are recognized and protected.

• Public Domain. Under the Settlement, fractional interests acquired by the Program are to be immediately held in trust or restricted status for the recognized tribe that exercises jurisdiction over the land. When identifying the locations with fractional interests that may be consolidated, the Program excludes land area names that include the term public domain or off reservation because use of these terms indicate that there may be no recognized tribe that exercises jurisdiction over the land. The Program has encouraged feedback, however, on the list of locations in its 2012 and 2013 implementation plans. Since then, the Program has received feedback from several tribes suggesting that certain land areas should be included. The Program is now seeking general feedback on whether and if so how the Program should incorporate public domain or off reservation land areas into the Program, including any suggested standards or processes that could be applied.

IV. Additional Resources

The Land Buy-Back Program for Tribal Nations 2014 Status Report and additional information about the Buy-Back Program is available at: http://www.doi.gov/buybackprogram. In addition, landowners can contact their local Fiduciary Trust Officer or call Interior's Trust Beneficiary Call Center at (888) 678-6836.

Dated: November 19, 2014.
Michael L. Connor,
Deputy Secretary.

[FR Doc. 2014-27773 Filed 11-21-14; 8:45 am]

BILLING CODE 4310-10-P